DEPARTMENT OF THE INTERIOR

Bureau of Land Management

[17X LLIDB00100 LF1000000.HT0000 LXSIOVHD0000.4500104754]

Notice of Public Meeting; Boise District Resource Advisory Council

AGENCY: Bureau of Land Management, Interior.

ACTION: Notice.

SUMMARY: In accordance with the Federal Land Policy and Management Act (FLPMA), the Federal Advisory Committee Act of 1972 (FACA), the U.S. Department of the Interior, Bureau of Land Management's (BLM) Boise District Resource Advisory Council (RAC) will meet as indicated below.

DATES: The Boise District RAC meeting will be held on April 5, 2017, at the BLM Boise District Office. The meeting will begin at 9:00 a.m. and end no later than 4:00 p.m. (times are Mountain Time).

ADDRESSES: BLM Boise District Office, 3948 Development Avenue, Boise, Idaho 83705.

FOR FURTHER INFORMATION CONTACT: Michael Williamson, by telephone at 208-384-3393; or by email at mwilliamson@blm.gov. Persons who use a telecommunications device for the deaf (TDD) may contact Mr. Williamson by calling the Federal Relay Service (FRS) at 800-877-8339. The FRS is available 24 hours a day, seven days a week, to leave a message or question with Mr. Williamson. You will receive a reply during normal business hours.

SUPPLEMENTARY INFORMATION: The 15-member RAC advises the Secretary of the Interior, through the BLM, on a variety of planning and management issues associated with public land management in Idaho. During the April 5, 2017, meeting the Boise District RAC will receive updates on the Wild Horse and Burro program; travel management planning; fire program; Soda Fire rehabilitation; the Four Rivers Field Office Resource Management Plan; and other field office updates. Additional topics may be added and will be included in local media announcements, and the final agenda RAC meetings are open to the public. The public may present written comments to the RAC at the address provided above. Each RAC meeting will have time allocated for oral comments. Depending on the number of persons wishing to comment and time available, the time for individual oral comments may be limited. Individuals who plan to attend and need special assistance, such as sign language interpretation, tour transportation or other reasonable accommodations, should contact the BLM as provided above (see FOR FURTHER INFORMATION CONTACT).

Before including your address, phone number, email address, or other personal identifying information in your comments, please note that your entire comment, including your personal identifying information, may be made publicly available at any time. While you can ask us in your comment to withhold your personal identifying information from public review, we cannot guarantee that we will be able to do so.

Authority: 43 CFR 1784.4-1.

Aimee Betts,
Associate District Manager.

[FR Doc. 2017-05868 Filed 3-23-17; 8:45 am]

BILLING CODE 4310-GG-P